DEPARTMENT OF VETERANS AFFAIRS

Research Advisory Committee on Gulf War Veterans' Illnesses; Notice of Meeting

The Department of Veterans Affairs (VA) gives notice under Pub. L. 92-463 (Federal Advisory Committee Act) that the Research Advisory Committee on Gulf War Veterans' Illnesses will meet on June 28-29, 2004, at the VA Medical Center located at 385 Tremont Avenue, East Orange, NJ. The meeting will be held in Room 11137, War Related Illness and Injuries Study Center (WRIISC). The session on June 28 will convene at 9 a.m. and adjourn at 5:30 p.m. The session on June 29 will convene at 9 a.m. and adjourn at 2:30 p.m. Both sessions will be open to the public.

The purpose of the Committee is to provide advice and make recommendations to the Secretary of Veterans Affairs on proposed research studies, research plans and research strategies relating to the health consequences of military service in the Southwest Asia theater of operations during the Gulf War.

On June 28, the Committee will be briefed on a number of research presentations from the staff of the East Orange WRIISC. In the afternoon there will be clinical presentations and a roundtable discussion. On June 29, the Committee will hear a presentation on “Understanding the Biochemical Basis of Gulf War Illnesses” by Sharon Mates, PhD, and Allen Feinberg, PhD, of Intra-Cellular Therapies, Inc. In the afternoon, the Committee will receive an update on recent research and discuss the Committee's 2004 report. Time will be available for public comment on both days.

Members of the public may submit written statements for the Committee's review to Ms. Laura O'Shea, Designated Federal Officer, Department of Veterans Affairs (008A1), 810 Vermont Avenue, NW., Washington, DC 20420. Any member of the public seeking additional information should contact Ms. Laura O'Shea at (202) 273-5031.

Dated: June 1, 2004.
By Direction of the Secretary.
E. Philip Riggin,
Committee Management Officer.

[FR Doc. 04-12953 Filed 6-7-04; 8:45 am]

BILLING CODE 8320-01-M